DEPARTMENT OF THE INTERIOR

National Park Service

Final Environmental Impact Statement/Fire Management Plan Point Reyes National Seashore Marin County, CA; Notice of Approval of Record of Decision

SUMMARY: Pursuant to § 102(2)(C) of the National Environmental Policy Act of 1969 (Public Law 91-190, as amended) and the implementing regulations promulgated by the Council on Environmental Quality (40 CFR 1505.2), the Department of the Interior, National Park Service has prepared, and the Regional Director, Pacific West Region has approved, the Record of Decision for the updated Fire Management Plan for Point Reyes National Seashore. The formal no-action period was officially initiated September 10, 2004, with the U.S. Environmental Protection Agency's Federal Register notification of the filing of the Final Environmental Impact Statement (EIS).

Decision: As soon as practicable the park will begin to implement as its updated Fire Management Plan the “Increase Natural Resource Enhancement and Expand Hazardous Fuel Reduction” alternative contained in the Draft and Final EIS (also described and analyzed as the Alternative C). The selected plan features a long-term, coordinated strategy to restore native plant cover, reduce infestations of invasive non-native plants, increase abundance of federally listed species, and protect or enhance cultural resources and historic scenes. Use of prescribed fire or mechanical treatments on up to 3,500 acres could be undertaken, so as to protect high priority areas having hazardous fuels (any actions deemed essential to occur within Wilderness would be executed only after first determining the “minimum tool” appropriate to accomplish the necessary work). As documented through the EIS process, this plan was also deemed to be the “environmentally preferred” alternative.

This course of action and two alternatives were identified and analyzed in the Final EIS, and previously in the Draft EIS (the latter was distributed in spring, 2004). The full spectrum of foreseeable environmental consequences was assessed, and appropriate mitigation measures identified, for each alternative. Beginning with early scoping, through the preparation of the Draft and Final EIS, several public meetings and numerous interagency reviews were conducted, and newsletter updates were regularly provided (only seven written comments responding to the Draft EIS were received, with minor points raised). Key consultations which aided in preparing the Draft and Final EIS involved (but were not limited to) the U.S. Fish and Wildlife Service, National Marine Fisheries Service, California Department of Fish and Game, State Historic Preservation Office, native American Tribes, regional air quality management districts, and adjoining land managing agencies. Local communities, county and city officials, and interested organizations were contacted extensively during initial scoping and throughout the fire planning process.

Copies: Interested parties desiring to review the Record of Decision may obtain a complete copy by contacting the Superintendent, Point Reyes National Seashore, Point Reyes, CA 94956; or via telephone request at (415) 464-5100.

Dated: October 29, 2004.
Jonathan B. Jarvis,
Regional Director, Pacific West Region.

[FR Doc. 04-28293 Filed 12-27-04; 8:45 am]

BILLING CODE 4312-FW-P